DEPARTMENT OF DEFENSE

Department of the Army; Corps of Engineers

Intent To Prepare a Draft Environmental Impact Statement/Environmental Impact Report (DEIS/EIR) for the San Bernardino Lakes and Streams, San Bernardino County, CA

AGENCY: Department of the Army, U.S. Army Corps of Engineers, DOD.

ACTION: Notice of intent.

SUMMARY: The purpose of the study is to evaluate approximately a 16-mile reach of the Santa Ana River along the southern boundary of the City of San Bernardino and the northern boundary of the City of Redlands located in San Bernardino County, CA. The focus will be on watershed improvements by developing alternatives for ecosystem restoration, and incorporating flood risk management features in some areas in downtown San Bernardino and Redlands. The restoration project will concentrate on revitalization of the riparian vegetation community; establish environmental corridor to benefit wildlife and sensitive species; and address flood risk management uses. The portion of the Santa Ana River to be studied is located entirely within San Bernardino County, CA.

DATES: Provide comments by April 28, 2008.

ADDRESSES: Submit comments to Mr. Kirk C. Brus at U.S. Army Corps of Engineers, Los Angeles District, CESPL-PD-RL, P.O. Box 532711, Los Angeles, CA 90053-2325.

FOR FURTHER INFORMATION CONTACT: Mr. Kirk C. Brus, Environmental Coordinator, Regional Planning Section, at 213-452-3876; fax 213-452-4204 or E-mail at kirk.c.brus@usace.army.mil.

SUPPLEMENTARY INFORMATION: 1. Authorization: The proposed study is authorized by House Document No. 135, 81st Congress, 1st Session; dated 8 May 1964, which reads as follows:

Resolved by the Committee on Public Works of the House of Representatives, United States, that the Board of Engineers for Rivers and Harbors is hereby requested to review the reports on (a) San Gabriel River and Tributaries, published as House Document No. 838, 76th Congress, 3d Session; and (b) Santa Ana River and Tributaries.

The proposed study is also authorized by House Document 20, 106th Congress, 1st Session Adopted April 15, 1999, which reads as follows:

Resolved by the Committee on Transportation and Infrastructure of the United States House of Representatives, that the Secretary of the Army is requested to review the report of the Chief of the Engineers of Santa Ana River Main Stem, including Santiago Creek, California, and other pertinent reports to determine whether modification to the recommendations contained therein are advisable at the present time in the interest of reducing the risks to public safety and property caused by flooding from high groundwater conditions, groundwater liquefaction related water quality contamination and environmental damage in the City of San Bernardino, California and adjacent communities.

2. Background: The San Bernardino Valley has undergone considerable land use changes since 1842 when Mexico granted Rancho San Bernardino to Antonio Maria Lugo who grazed thousands of head of cattle in the valley dotted with streams, riparian corridors, wetland and marsh areas, seeps and meadows. Naval oranges and other profitable agriculture crops fueled the growth through the 1870's. The 1880's brought the gold rush, more growth, and from the late 1880's until 1965, the Pacific Electric Railway Company played a significant role in the development of San Bernardino County. With continued urbanization and growth and development of industry and new technology land transitioned from agricultural use to development of business, industrial and residential property. Due to the development of modern railroads and the transition from passenger and freight to freight only, the re-configuration of rail-routes and transportation hubs through the 1960's and 1970's have significantly impacted San Bernardino Valley. The growth and development of the community resulted in the loss or degradation of many of the wetland, marsh and open-water areas; as well as, the constriction, fragmentation, degradation and loss in spatial extent of the riparian community that once existed in the San Bernardino Valley and the Santa Ana River. Impacts to the groundwater coming from the San Bernardino Mountains have also occurred due to the changes in land use. In the past, groundwater levels have risen enough to reach the ground surface, resulting in structural damage, flooded basements, weakened load-bearing capacity of streets, disrupted underground utilities, substantially increasing liquefaction hazard should a seismic event occur, and increased development costs and limitations. Historic high groundwater levels occurred in 1984 after five consecutive wet years, when groundwater reached unacceptably high levels in the San Bernardino Valley. The 16-mile reach of the Santa Ana River located between the City of San Bernardino to the north and the City of Redlands to the south poses damage to riparian ecosystems from past flooding and groundwater polluting activities. Ecosystem processes that help maintain groundwater supplies must be protected and restored where degraded. Flood risk management measures are a way to support the riparian habitat. Alternatives to be considered are those that will reduce further degradation of the river and the riparian ecosystem; improve the quality of both ground and surface waters; and reduce adverse water quality impacts from runoff.

3. Scoping Process: a. A scoping meeting is scheduled for the following three dates, times and locations, as follows: April 9, 2008, 6 to 8 p.m., City of Redlands City Council Chambers, 35 Cajon Street, Suite 2, Redlands, CA 92373; April 10, 2008, 6 p.m to 8 p.m., San Bernardino County Regional Parks Department Meeting Room, 777 East Rialto Avenue, San Bernardino, CA 92415, and; April 11, 2008, 6 to 8 p.m., City of San Bernardino Economic Development Agency Board Room, 201 North E. Street, Third Floor, San Bernardino, CA 92401. For additional information on dates, times, and locations please contact Jim Canady, San Bernardino County Regional Parks Department, at (909) 383-3202. Potential impacts associated with the proposed action will be evaluated. Resource categories that will be analyzed are: Physical environment, geology, biological resources, air quality, water quality, recreational usage, aesthetics, cultural resources, transportation, noise, hazardous waste, socioeconomics and safety.

b. Participation of affected Federal, State and local resource agencies, Native American groups and concerned interest groups/individuals is encouraged in the scoping process. Public participation will be especially important in defining the scope of analysis in the Draft EIS/EIR, identifying significant environmental issues and impact analysis in the Draft EIS/EIR and providing useful information such as published and unpublished data, personal knowledge of relevant issues and recommending mitigation measures associated with the proposed action.

c. Those interested in providing information or data relevant to the environmental or social impacts that should be included or considered in the environmental analysis can furnish this information by writing to the points of contact indicated above or by attending the public scoping meeting. A mailing list will also be established so pertinent data may be distributed to interested parties.

Dated: March 7, 2008.
Thomas H. Magness,
Colonel, U.S. Army, District Commander.

[FR Doc. E8-5141 Filed 3-13-08; 8:45 am]

BILLING CODE 3710-KF-P